DEPARTMENT OF JUSTICE

Notice of Lodging of Proposed Consent Decree Under the Clean Air Act and Clean Water Act

On August 2, 2023, the Department of Justice lodged a proposed consent decree with the United States District Court for the Northern District of New York in the lawsuit entitled United States and State of New York v. FrieslandCampina Ingredients North America, Inc., Civil Action No. 3:23-cv-00937-TJM-ML.

The United States and the State of New York filed this civil enforcement action for injunctive relief and civil penalties pursuant to section 113 of the Clean Air Act (“CAA”), 42 U.S.C. 7413, section 309 of the Clean Water Act (“CWA”), 33 U.S.C. 1319, and article 19 of the New York Environmental Conservation Law (“ECL”), and regulations promulgated thereto, against FrieslandCampina Ingredients North America, Inc. (“Friesland” or “Defendant”), as owner and operator of a hydrolyzed protein powder facility (“Facility”) located at 40196 State Highway 10, Delhi, New York.

The complaint alleges that Friesland violated the CAA by failing to: obtain a modification of its title V CAA permit before its Facility became a major source of volatile organic compound (“VOC”) emissions; perform a Reasonably Available Control Technology (“RACT”) demonstration and implement RACT before commencing operation of a major source of VOC emissions; obtain a permit before constructing a new, modified, or existing air contamination source at the Facility; and report and maintain annual reports of its VOC (toluene) emissions. The complaint also alleges that Friesland violated the CWA by: failing to comply with the New York State Department of Environmental Conservation (“NYSDEC”) State Pollutant Discharge Elimination System (“SPDES”) Permit No. NY262838; discharging non-contact cooling water to the Delaware River at temperatures that exceeded the Facility's permit limit of 70 degrees Fahrenheit; introducing total suspended solids into the Village of Delhi's publicly owned treatment works in quantities that caused pass through and/or interference with the treatment works; and failing to comply with its New York SPDES Multi-Sector General Permit for Stormwater Discharges Associated with Industrial Activity (GP-0-17-004—No. NYR00F872) No Exposure Certification.

The settlement, set forth in a consent decree lodged with the court, would resolve violations of the CAA, CWA, and the ECL, and would require Friesland to reduce harmful toluene emissions through the installation and operation of pollution controls and comply with its permits. Friesland would also pay a civil penalty of $2,880,000 ($1,440,000 of which will be directed to New York State, exclusively to fund projects to prevent, abate, restore, mitigate, or control any identifiable instance of prior or ongoing water, land, or air pollution, as authorized by New York State Finance Law section 4(11) and New York Executive Law section 63(16)), and implement a Supplemental Environmental Project (“SEP”) at the Facility to reduce the adverse impacts of its thermal discharges and overall environmental risk to the Delaware River, by installing a closed-loop cooling tower system to replace its once-through, non-contact cooling water process that discharges excess heat into the adjacent watershed. The SEP would reduce groundwater withdrawals needed for Friesland's operations and the volume of discharges of heated water to the Delaware River, which would enhance trout habitat.

The publication of this notice opens a period for public comment on the proposed consent decree. Comments should be addressed to the Assistant Attorney General, Environment and Natural Resources Division, and should refer to United States and State of New York v. FrieslandCampina Ingredients North America, Inc., D.J. Ref. No. 90-5-2-1-12387. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ-ENRD, P.O. Box 7611, Washington, DC 20044-7611.

Please enclose a check or money order for $10.25 (25 cents per page reproduction cost) payable to the United States Treasury.

Henry Friedman,
Assistant Section Chief, Environmental Enforcement Section, Environment and Natural Resources Division.

[FR Doc. 2023-16919 Filed 8-7-23; 8:45 am]

BILLING CODE 4410-15-P